DEPARTMENT OF COMMERCE

International Trade Administration

[A-588-846]

Hot-Rolled Flat-Rolled Carbon-Quality Steel Products From Japan: Extension of Time Limit for Preliminary Results of Antidumping Administrative Review

AGENCY: Import Administration, International Trade Administration, Department of Commerce

ACTION: Notice of extension of time limit for preliminary results of administrative review.

EFFECTIVE DATE: January 10, 2001.

FOR FURTHER INFORMATION CONTACT: Michael Strollo or Sean Carey, AD/CVD Enforcement, Import Administration, International Trade Administration, U.S. Department of Commerce, 14th Street and Constitution Avenue, NW., Washington, DC 20230; telephone: (202) 482-5255 or (202) 482-3964, respectively.

The Applicable Statute

Unless otherwise indicated, all citations to the statute are references to the provisions effective January 1, 1995, the effective date of the amendments made to the Tariff Act of 1930 (the Act) by the Uruguay Round Agreements Act. In addition, unless otherwise indicated, all citations to the Departments's regulations are to the current regulations, codified at 19 CFR part 351 (2000).

Background

On June 30, 2000, the Department of Commerce (the Department) received a request from Kawasaki Steel Corporation (“Kawasaki”) for an administrative review of the antidumping duty order on hot-rolled flat-rolled carbon-quality steel products from Japan. On July 31, 2000, the Department published a notice of initiation of this administrative review, covering the period of February 19, 1999 through May 31, 2000 (65 FR 46687).

Extension of Time Limits for Preliminary Results

Because of the complexities enumerated in the Memorandum from Barbara E. Tillman to Joseph A. Spetrini, Extension of Time Limit for the Administrative Review of Hot-Rolled Flat-Rolled Carbon-Quality Steel Products from Japan, dated January 3, 2001, it is not practical to complete this review within the time limits mandated by section 751(a)(3)(A) of the Act.

Therefore, in accordance with section 751(a)(3)(A) of the Act, the Department is extending the time limit for the preliminary results of review until June 29, 2001. The final results continue to be due 120 days after the publication of the preliminary results.

Dated: January 3, 2001.
Joseph A. Spetrini,
Deputy Assistant Secretary, AD/CVD Enforcement Group III

[FR Doc. 01-778 Filed 1-9-01; 8:45 am]

BILLING CODE 3510-DS-P